DEPARTMENT OF HEALTH AND HUMAN SERVICES

Administration for Children and Families

Submission for OMB Review; Comment Request

Title: Head Start Family and Child Experiences Survey (FACES).

OMB No.: Revision of a currently approved collection (OMB No. 0970-0151).

Description: The Administration on Children, Youth and Families (ACYF), Administration for Children and Families (ACF) of the Department of Health and Human Services (DHHS) is requesting comments on plans to amend the Head Start Family and Child Experiences Survey (FACES) data collection. This study is being conducted under contract with Westat, Inc. (with Ellsworth Associates and the CDM Group as their subcontractors) (#105-96-1912) to collect information on Head Start performance measures. The current revision is intended to include 8 additional sites participating in the Head Start Quality Research Center Consortium. These Head Start program-university researcher partnerships, funded under cooperative agreements with ACYF, will be conducting evaluations of interventions designed to enhance the school readiness of Head Start children in such areas as literacy and social-emotional development, through improvements in curriculum, training, and assessment practices. This amendment will include use of subsections of the FACES instrument battery to obtain information about classroom quality and child performance both before and after the implementation of the interventions. Data from local sites can be compared to the data available from the FACES national sample.

Respondents: Federal Government, Individuals or Households, and Not-for-profit institutions.

Annual Burden Estimates: Estimated Response Burden for Respondents to the Quality Research Center Consortium FACES Data Collection, 2001, 2002, 2003.

Fall 2001
Instruments | No. of respondents | No. of responses per respondent | Average burden hours per response | Total burden hours
Head Start Child Assessments | 600 | 1 | ⅔ | 396
Head Start Teacher ratings | 48 | 13 | ¼ | 156
Education Coordinator | 24 | 1 | ¾ | 18
Center Directors | 24 | 1 | 1 | 24
Classroom Teachers | 48 | 1 | 1 | 48
Totals for Fall 2001 | 744 |  |  | 642

Spring 2002
Instruments | No. of respondents | No. of responses per respondent | Average burden hours per response | Total burden hours
Head Start child Assessments | 520 | 1 | ⅔ | 343
Head Start Teacher ratings | 48 | 11 | ¼ | 132
Classroom Teachers | 48 | 1 | 1 | 48
Totals for Spring 2002 | 616 |  |  | 523

Fall 2002
Instruments | No. of respondents | No. of responses per respondent | Average burden hours per response | Total burden hours
Head Start Child Assessments | 920 | 1 | ⅔ | 607
Head Start Teacher Ratings | 80 | 12 | ¼ | 240
Center Directors | 24 | 1 | 1 | 24
Education Coordinators | 24 | 1 | .75 | 18
Classroom Teachers | 80 | 1 | 1 | 80
Totals for Fall 2002 | 1,128 |  |  | 969

Spring 2003
Instruments | No. of respondents | No. of responses per respondent | Average burden hours per response | Total burden hours
Head Start Child Assessments | 800 | 1 | ⅔ | 528
Head Start Teacher Ratings | 80 | 10 | ¼ | 200
Classroom Teachers | 80 | 1 | 1 | 80
Totals for Spring 2003 | 960 |  |  | 808

Total 2001: 642.

Total 2002: 1492.

Total 2003: 808.

Estimated Annual Burden Hours: 981.

Note: Estimated Annual Burden Hours are based on an average of 2001, 2002, and 2003 estimated burden hours.

FOR FURTHER INFORMATION CONTACT: Copies of the proposed collection may be obtained by writing to The Administration for Children and Families, Office of Information Services, 370 L'Enfant Promenade, SW., Washington, DC 20447, Attn: ACF Reports Clearance Officer.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503; Attn: Desk Officer for ACF.

Dated: August 22, 2001.
Bob Sargis,
Reports Clearance Officer.

[FR Doc. 01-21543 Filed 8-24-01; 8:45 am]

BILLING CODE 4184-01-M